DEPARTMENT OF LABOR

Mine Safety and Health Administration

Program Policy Letter P06-V-9: Section 2 of MINER Act; Emergency Response Plan, Post-Accident Breathable Air

AGENCY: Mine Safety and Health Administration (MSHA), Labor.

ACTION: Request for information.

SUMMARY: On June 15, 2006, the Mine Improvement and New Emergency Response (MINER) Act of 2006 was enacted. In accordance with Section 2 of the MINER Act, each underground coal mine operator must submit an emergency response plan (ERP) to the appropriate MSHA District Manager. The ERP provides for the evacuation of all individuals endangered by an emergency and also for the maintenance of individuals trapped underground in the event that miners are unable to evacuate the mine. MSHA is soliciting comments that address the availability of readily accessible breathable air that would be sufficient to maintain miners trapped underground over a sustained period of time. MSHA will consider these comments in developing guidance to assist in assuring that the ERPs provide safe and reliable post-accident breathable air supplies for trapped miners.

DATES: Comments must be received by MSHA on or before October 16, 2006.

ADDRESSES: Comments must be clearly identified with “PPL P06-V-9—Emergency Response Plan, Post-Accident Breathable Air” and may be sent to MSHA by any of the following methods:

(1) Electronic mail: zzMSHA-comments@dol.gov. Include “PPL P06-V-9—Emergency Response Plan, Post-Accident Breathable Air” in the subject line of the message.

(2) Telefax: (202) 693-9441. Include “PPL P06-V-9—Emergency Response Plan, Post-Accident Breathable Air” in the subject line.

(3) Regular Mail: MSHA, Office of Standards, Regulations, and Variances, 1100 Wilson Blvd., Room 2350, Arlington, Virginia.

(4) Hand Delivery or Courier: MSHA, Office of Standards, Regulations, and Variances, 1100 Wilson Blvd., Room 2350, Arlington, Virginia 22209-3939. Stop by the 21st floor and sign in at the receptionist's desk.

Docket: Comments can be accessed electronically at www.msha.gov under the “Program Policy Letter (P06-V-9)” link on the MINER Act single source page. MSHA will post all comments on the Web site without change, including any personal information provided. Comments may also be reviewed at the Office of Standards, Regulations, and Variances, 1100 Wilson Blvd., Room 2350, Arlington, Virginia 22209-3939.

FOR FURTHER INFORMATION CONTACT: Patricia W. Silvey, Acting Director, Office of Standards, Regulations, and Variances, MSHA, 1100 Wilson Blvd, Room 2350, Arlington, Virginia 22209-3939, silvey.patricia@dol.gov (e-mail), (202) 693-9440 (voice), or (202) 693-9441 (telefax).

SUPPLEMENTARY INFORMATION: The MINER Act (Pub. L. 109-236) became effective on June 15, 2006. Section 2 of the MINER Act amends Section 316 of the Federal Mine Safety and Health Act of 1977 (Mine Act) to require that every underground coal mine operator have an emergency response plan which is to be approved by MSHA. The Act further requires MSHA, in determining whether to approve a particular plan, to consider comments from miners and miners' representatives. The ERP must provide for the evacuation of miners endangered by an emergency and for the maintenance of miners trapped underground in the event that they are unable to evacuate the mine. The MINER Act requires that the ERP provide for “emergency supplies of breathable air for individuals trapped underground sufficient to maintain such individuals for a sustained period of time.”

On June 27, 2006, MSHA solicited comments related to the implementation of emergency response plans for underground coal mines. Following review of these comments, MSHA issued Program Policy Letter (PPL) Number P06-V-8 on July 21, 2006, which established MSHA policy and guidance for mine operators to facilitate the development of their ERPs.

In the PPL, MSHA stated that the ERP should address the amount of post-accident breathable air necessary to maintain individuals for a sustained period of time. The Agency suggested oxygen, compressed air, or other alternatives to meet the breathable air requirement. Further, MSHA stated that the Agency will need to review thoroughly and evaluate alternatives to ensure that all safety and health risks are taken into consideration. In the PPL, the Agency also noted that additional time and information is needed to make decisions on the type, amount, and location of post-accident breathable air to be furnished for trapped miners.

On August 4, 2006, MSHA reissued the PPL (as PPL Number P06-V-9) to include an alternative to the distance table for self-contained self-rescuer (SCSR) storage locations to allow mine operators to use a functionality test to establish distances between SCSR storage locations.

At this time, MSHA is soliciting information from the mining community on topics related to post-accident breathable air that would be sufficient to maintain miners trapped underground for a sustained period of time.

The MINER Act requires that all approved plans:

(1) Afford miners a level of safety protection at least consistent with the existing standards, including standards mandated by law and regulation;

(2) Reflect the most recent credible scientific research;

(3) Be technologically feasible, make use of current commercially available technology, and account for the specific physical characteristics of the mine; and

(4) Reflect the improvements in mine safety gained from experience under this Act and other worker safety and health laws.

In making decisions on requirements for post-accident breathable air provisions in the plan, MSHA will take these factors into consideration. Please consider these factors as you develop your responses.

When answering the questions below, please key your response to the topic and number of the question, and explain the reasons supporting your views. Please provide relevant information on which you rely, including, but not limited to, past experience, as well as data, studies and articles, and standard professional practices. Include any data related to technological feasibility or other related issues.

Issues on Which Information is Requested

MSHA requests information on the following issues related to the breathable air provision of the MINER Act:

A. Emergency Supply of Breathable Air

1. What factors should MSHA consider in determining a “sustained period of time?” Should a specific time period be adopted? If so, what is the appropriate time period and why? The Agency has received suggestions ranging from one hour of post-accident breathable air to a continuous supply. Please include the rationale for the recommended period of time.

2. Should factors such as mine size, mine design and layout, number of miners potentially affected, and distance from the portals to the working section be used, and if so, how, in determining the sufficient quantity of breathable air? What other factors should be considered and how should they be considered?

3. Where should the post-accident breathable air supply be located in relation to: working sections; outby work stations; and along travel routes?

4. The MINER Act requires that plans be periodically updated to reflect changes in operations in the mine. What specific changes in operations would result in a need to update the breathable air provision of the plan?

B. Oxygen Sources

1. Please provide information and make recommendations on the best way to provide breathable air. Please elaborate on the arguments for and against using oxygen, compressed air, or chemically-induced oxygen to maintain trapped miners for a sustained period of time. What other available means of technology appropriate to maintain miners would you recommend, and why?

2. MSHA solicits information on how compressed air lines routed through mine openings could be protected against damage from explosion or fire. How could techniques such as burying or armoring air lines provide adequate protection?

3. MSHA solicits information on availability and possible obstacles in developing and deploying systems for providing oxygen.

C. Emergency Shelters

Section 13 of the MINER Act requires the National Institute for Occupational Safety and Health (NIOSH) to conduct research concerning various types of refuge alternatives, including commercially-available portable refuge chambers. In the interim, MSHA solicits comments on the use of emergency shelters which contain sufficient quantities of post-accident breathable air to maintain trapped miners.

1. Until specifications for refuge alternatives are developed, what type of emergency shelters (e.g., inflatable or other portable quick-deploy designs) should be provided, what safety features should they offer, where should they be located, and why?

2. How should the use of emergency shelters be tied to emergency supplies of breathable air?

3. If post-accident breathable air is provided through emergency shelters, provide information on appropriate distances between installations and proximity to working sections. Please provide specific feasibility considerations, if any.

4. Under what circumstances, if any, could a barricade be used as an emergency shelter to provide post-accident breathable air?

Dated: August 25, 2006.
David G. Dye,
Acting Assistant Secretary for Mine Safety and Health.

[FR Doc. 06-7260 Filed 8-29-06; 8:45 am]

BILLING CODE 4510-43-P